DEPARTMENT OF COMMERCE

Minority Business Development Agency

15 CFR Part 1400

[Docket No. 121130667-2667-01]

Petition for Inclusion of the Arab-American Community in the Groups Eligible for MBDA Services

AGENCY: Minority Business Development Agency, Commerce.

ACTION: Notice of proposed rulemaking and request for comments; amendment.

SUMMARY: The Minority Business Development Agency (MBDA) publishes this notice to extend the date on which it plans to make its decision on a petition from the American-Arab Anti-Discrimination Committee requesting formal designation as a group eligible for MBDA's services from November 30, 2012 to March 1, 2013.

FOR FURTHER INFORMATION CONTACT: For further information about this Notice, contact Josephine Arnold, Minority Business Development Agency, 1401 Constitution Avenue NW., Room 5053, Washington, DC 20230, (202) 482-5461.

SUPPLEMENTARY INFORMATION: On May 30, 2012, the Minority Business Development Agency (MBDA) published a notice of proposed rulemaking and request for comments regarding a petition received on January 11, 2012 from the American-Arab Anti-Discrimination Committee (ADC) requesting formal designation of Arab-Americans as a minority group that is socially or economically disadvantaged pursuant to 15 CFR part 1400. MBDA has published several notices in the Federal Register to extend the date for making a decision on the merits of the petition. On September 4, 2012, MBDA published an amendment to extend the deadline for the decision until November 30, 2012. The Agency has determined that an additional ninety (90) day period for consideration of the policy implications associated with the petition is necessary. Therefore, the Agency has determined that the time in which it will make its decision on the petition will be on or before March 1, 2013. This extension will not prejudice the petitioner.

Minority Business Development Agency.
David Hinson,
National Director.

[FR Doc. 2012-29431 Filed 12-4-12; 8:45 am]

BILLING CODE 3510-21-P